DEPARTMENT OF COMMERCE

National Oceanic and Atmospheric Administration

50 CFR Part 228

[I.D. 042502C]

Taking of the Cook Inlet (CI), Alaska, Stock of Beluga Whales by Alaska Natives, Marine Mammal Protection Act (MMPA)

AGENCY: National Marine Fisheries Service (NMFS), National Oceanic and Atmospheric Administration (NOAA), Commerce.

ACTION: Notice of availability; request for comments.

SUMMARY: The MMPA allows NMFS to limit the subsistence harvest of marine mammals by Alaska Natives when the affected stock of marine mammals is depleted and after the opportunity for a formal hearing on the proposed regulations to limit subsistence harvest. After designating the Cook Inlet stock of beluga whales as depleted, NMFS proposed regulations to limit the subsistence harvest from this stock. In December 2000, a formal hearing was conducted on the proposed regulations. The Administrative Law Judge presiding in the hearing has submitted his recommended decision to the Assistant Administrator for Fisheries (AA). The Judge's recommended decision is available for public review, and NMFS solicits comments on his recommendations.

DATES: Comments must be received by May 27, 2002.

ADDRESSES: Copies of the recommended decision may be reviewed and/or copied at the Protected Resources Division, Alaska Regional Office, NMFS, Anchorage, AK, 99513; or at the Alaska Regional Office, Protected Resources Division, Juneau, AK 99802. Copies of the recommended decision and the entire record of the hearing may be reviewed and/or copied at the Office of Protected Resources, NMFS, 1315 East-West Highway, Silver Spring, MD 20910. Comments on the recommended decision should be forwarded to the Chief, Marine Mammal Division, Office of Protected Resources, NMFS, 1315 East-West Highway, Silver Spring, MD 20910 or submitted by facsimile to (301) 713-0376. Comments will not be accepted if submitted via the Internet or e-mail.

FOR FURTHER INFORMATION CONTACT: Thomas Eagle, NMFS, Office of Protected Resources, (301) 713-2322, ext. 105; Barbara Mahoney, NMFS Alaska Region, Anchorage Field Office, (907) 271-5006; or Michael Payne, NMFS, Alaska Region, (907) 586-7235.

SUPPLEMENTARY INFORMATION:

Electronic Access

The recommended decision, proposed regulations, and other documents related to the proposed rule and recovery effort are available on the Internet at the following address: http://www.fakr.noaa.gov/protectedresources/whales/beluga.htm.

Background

NMFS proposed regulations limiting the subsistence harvest of beluga whales in Cook Inlet, Alaska, on October 4, 2000 (65 FR 59164). The proposed rule’s objectives are to recover the depleted stock of Cook Inlet beluga whales to its optimum sustainable population level while preserving the traditional subsistence use of the marine mammals by Alaska Natives. The proposed rule provides that:

(1) Subsistence harvest can only occur under an agreement between NMFS and an Alaska Native organization pursuant to section 119 of the MMPA;

(2) Subsistence harvest shall be limited to no more than two strikes annually until the stock is no longer considered depleted under the MMPA;

(3) The sale of CI beluga whale products shall be prohibited;

(4) All hunting for subsistence purposes shall occur after July 15 each year; and

(5) The harvest of newborn calves, or adult whales with maternally dependent calves shall be prohibited.

Section 101(b) and section 103(d) of the MMPA require that regulations prescribed to limit the subsistence harvest of marine mammals by Alaska Natives be made after opportunity for a formal agency hearing. Judge Parlen L. McKenna convened a hearing on the proposed rule December 5-8, 2000, in Anchorage, Alaska. Seven persons or parties participated in the hearing.

On March 29, 2002, Judge McKenna submitted his recommended decision in the case to the AA. Federal regulations (50 CFR 228.20) require the AA to make the recommended decision available for public review and comment for a 20-day period. Following the 20-day comment period, the AA must make a final decision on the proposed regulations, which must include the following:

(1) A statement containing a description of the history of the proceeding;

(2) Findings on the issues of fact with the reasons therefor; and

(3) Rulings on issues of law.

The AA’s decision must be published in the Federal Register, and final regulations shall be promulgated with the decision. In accordance with these regulations, NMFS solicits public comments on Judge McKenna's recommended decision.

Dated: May 1, 2002.
David Cottingham,
Acting Director, Office of Protected Resources, National Marine Fisheries Service.

[FR Doc. 02-11302 Filed 5-6-02; 8:45 am]

BILLING CODE 3510-22-S